DEPARTMENT OF LABOR

Employment and Training Administration

[TA-W-52,136]

Fairchild Semiconductor Corp., a Subsidiary of Fairchild Semiconductor International, Inc., Including Temporary Workers of Manpower, South Portland, ME; Amended Certification Regarding Eligibility To Apply for Worker Adjustment Assistance

In accordance with section 223 of the Trade Act of 1974 (19 U.S.C. 2273) the Department of Labor issued a Certification of Eligibility to Apply for Worker Adjustment Assistance on August 6, 2003, applicable to workers of Fairchild Semiconductor Corporation, a subsidiary of Fairchild Semiconductor International, Inc., South Portland, Maine. The notice was published in the Federal Register on August 18, 2003 (68 FR 49523).

At the request of the State agency, the Department reviewed the certification for workers of the subject firm. Information provided by the company shows that temporary workers of Manpower were employed at Fairchild Semiconductor Corporation to produce semiconductor devices at the South Portland, Maine location of the subject firm.

Based on these findings, the Department is amending this certification to include temporary workers of Manpower working at Fairchild Semiconductor Corporation, a subsidiary of Fairchild Semiconductor International, Inc., South Portland, Maine.

The intent of the Department's certification is to include all workers of Fairchild Semiconductor Corporation, a subsidiary of Fairchild Semiconductor International, Inc., who were adversely affected by increased imports.

The amended notice applicable to TA-W-52,136 is hereby issued as follows:

All workers of Fairchild Semiconductor Corporation, a subsidiary of Fairchild Semiconductor International, Inc., South Portland, Maine, including temporary workers of Manpower, producing semiconductor devices at Fairchild Semiconductor Corporation, a subsidiary of Fairchild Semiconductor International, Inc., South Portland, Maine, who became totally or partially separated from employment on or after June 9, 2002, through August 6, 2005, are eligible to apply for adjustment assistance under section 223 of the Trade Act of 1974.

Signed at Washington, DC, this 6th day of November, 2003.
Linda G. Poole,
Certifying Officer, Division of Trade Adjustment Assistance.

[FR Doc. 03-29549 Filed 11-25-03; 8:45 am]

BILLING CODE 4510-30-P